DEPARTMENT OF COMMERCE

International Trade Administration

Amended Trade Mission Date and Application Deadline to the Clinical Waste Management Mission to Indonesia and Malaysia

AGENCY: International Trade Administration, Department of Commerce.

ACTION: Notice.

SUMMARY: The United States Department of Commerce, International Trade Administration (ITA), is organizing an Executive-Led Clinical Waste Management Mission to Indonesia and Malaysia on September 11-15, 2023. Clinical Waste Management Trade Mission to Indonesia and Malaysia—originally scheduled for March 6-10, 2023, is postponed to September 11-15, 2023. The application deadline is now June 30, 2023.

Background

Clinical Waste Management Mission

The International Trade Administration has determined that to allow for optimal execution of recruitment and event scheduling for the mission, the dates of the mission are postponed from March 6-10, 2023 to September 11-15, 2023. As a result of the shift of the event dates the application deadline is also revised to June 30, 2023. Applications may be accepted after that date if space remains and scheduling constraints permit. Interested U.S. companies and trade associations/organizations that have not already submitted an application are encouraged to do so. The U.S. Department of Commerce will review applications and make selection decisions on a rolling basis in accordance with the 87 FR 15374 (March 18, 2022). The applicants selected will be notified as soon as possible. The proposed schedule is updated as follows:

Proposed Timetable

Note: The final schedule and potential site visits will depend on the availability of host government and business officials, specific goals of mission participants, and ground transportation.

September 11 (Monday) Indonesia, Day 1. | Trade Mission Participants arrive in Jakarta.
September 12 (Tuesday) Indonesia, Day 2 | A full-day in-person event in Jakarta. The morning will consist of a country briefing for delegation and a meeting with Indonesian government agencies/ministries.
| The afternoon will include a networking lunch and/or one-on-one sessions with U.S. companies, relevant Indonesian stakeholders, and potential local partners.
| Evening reception at the Ambassador's or Deputy Chief of Mission (DCM) Residence or the hotel.
September 13 (Wednesday) Indonesia—Day 3/Malaysia—Day 1 | Depart from Indonesia. Travel to Kuala Lumpur, Malaysia. Country briefing for delegation in Malaysia.
September 14 (Thursday) Malaysia—Day 2 | A full-day in-person event in Kuala Lumpur. Meeting with Malaysian government agencies/ministries.
| One-on-one sessions with relevant Malaysian stakeholders and potential local partners.
| Evening reception at the Ambassador's or Deputy Chief of Mission (DCM) Residence or the hotel.
September 15 (Friday) Malaysia—Day 3. | Depart from Malaysia.

Contact

Tricia McLain, Global Healthcare Team, U.S. Commercial Service, Newark, Ph: +1 973-264-9646, Tricia.McLain@trade.gov.

Evelina Scott, I&A Office of Energy and Environmental Industries, U.S. Department of Commerce | International Trade Administration, Ph: +1-202-603-4765, evelina.scott@trade.gov.

Indonesia

Eric Hsu, Senior Commercial Officer, Jakarta, Indonesia, Ph: +62 (21) 5083 1000, Eric.Hsu@trade.gov.

Elliot Brewer, Indonesia Desk Officer, Global Markets Asia, Washington, DC, Ph: +1 202 430 8025, Elliott.Brewer@trade.gov.

Fidhiza Purisma, Commercial Specialist (Environmental Technology), Ph: +62 (21) 5083 1000, Fidhiza.Purisma@trade.gov.

Pepsi Maryarini, Commercial Specialist (Healthcare), Ph: +62 (21) 5083 1000, Pepsi.Maryarini@trade.gov.

Malaysia

Francis Peters, Senior Commercial Officer, Kuala Lumpur, Malaysia, Ph: +60-3-2168-4869, Francis.Peters@trade.gov.

Krista Barry, Vietnam and Malaysia Desk Officer, Global Markets Asia, Washington, DC, Ph: 202-389-2298, Krista.Barry@trade.gov.

Siau Wei Pung, Senior Commercial Specialist (Environmental Technology), Ph: +60-3-2168-5050 Ext: 5139, SiauWei.Pung@trade.gov.

Bethany Tien, Commercial Specialist (Healthcare), Ph: +60-3-2168-5050 Ext: 4825, Bethany.Tien@trade.gov.

Gemal Brangman,
Director, ITA Events Management Task Force.

[FR Doc. 2022-24313 Filed 11-7-22; 8:45 am]

BILLING CODE 3510-DR-P